FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011778.

Title: Great Western/HASCO Agreement.

Parties: Great Western Steamship Company, Shanghai Haihua Shipping Co., Ltd.

Synopsis: The proposed agreement establishes a vessel-sharing agreement in the trades between U.S. Pacific Coast ports and ports in China, including Hong Kong. The parties request expedited review.

Agreement No.: 200563-010.

Title: Oakland-Trans Pacific Marine Terminal Agreement.

Parties: City of Oakland, Board of Port Commissioners, Trans Pacific Container Corporation.

Synopsis: The proposed amendment sets forth the settlement and compromise of a dispute between the parties.

Dated: October 5, 2001.
By Order of the Federal Maritime Commission.
Bryant L. VanBrakle,
Secretary.

[FR Doc. 01-25558 Filed 10-10-01; 8:45 am]

BILLING CODE 6730-01-P